DEPARTMENT OF ENERGY

Federal Energy Regulatory Commission

[Docket No. AD20-20-000]

Notice of Availability of Final Engineering Guidelines for the Evaluation of Hydropower Projects: Chapter 15—Supporting Technical Information Document and Digital Project Archive

The staff of the Federal Energy Regulatory Commission (FERC or Commission) has prepared a final “Chapter 15—Supporting Technical Information Document and Digital Project Archive” of its Engineering Guidelines for the Evaluation of Hydropower Projects (Guidelines). This chapter supersedes the portions of “Chapter 14—Dam Safety Performance Monitoring Program” that pertain to the Supporting Technical Information Document, and is one of four new chapters of the Guidelines intended to provide additional guidance related to 18 CFR part 12, Safety of Water Power Projects and Project Works, Docket No. RM20-9-000, Order No 880, issued by the Commission on December 16, 2021.

On July 16, 2020, the Commission issued a Notice of Proposed Rulemaking (NOPR) to revise its part 12 regulations. On the same day, the Commission solicited public review and comment on four new draft chapters of its Guidelines. Draft Chapter 15 was part of that issuance.

The Commission received ten comment letters in response to draft Chapter 15. Most of the comments were submitted by licensees and individuals through trade associations, including National Hydropower Association, Dam Safety Interest Group of CEATI International, and U.S. Society on Dams, as well as the U.S. Army Corps of Engineers. Comments were also received from individual licensees, corporations, and individuals, including David L. Mathews, McMillen Jacobs Associates, City of North Little Rock Electric, Alaska Electric Light and Power Company, Central Nebraska Public Power and Irrigation District, and Copper Valley Electric Association.

In all, the ten comment letters consisted of approximately 105 discrete comments. The comments received were varied. Most comments requested clarification of the information to include in the Supporting Technical Information Document (STID), when STID updates should be submitted, and how the information should be stored and filed. Commenters asked the Commission to:

• Clarify the use of hyperlinks in the STID;

• Clarify when STID updates are to be submitted;

• Clarify the requirement for providing searchable electronic documents from original hard copies;

• Consider adding the use of secured shared drives as a storage option;

• Reconsider the need for a hard copy of the STID;

• Avoid the duplication of information included in the Standard Operating Procedures section that is also included in other sections of the STID;

• Provide additional guidance on the type of information and reports to be included in each section of the engineering analyses; and

• Clarify the information to be included in the digital references.

Commission staff has considered all comments in finalizing Chapter 15 of the Engineering Guidelines. Based on the comments received, Chapter 15 has been revised to:

• Provide additional guidance on the types of information to include in the digital references, now termed the Digital Project Archive (DPA);

• Clarify how to file the DPA;

• Clarify the purpose of the STID and the DPA;

• Clarify the contents and format of the STID;

• Provide a file structure and organization for the DPA; and

• Clarify when updates of the STID and DPA should be submitted.

All information related to “Chapter 15—Supporting Technical Information Document and Digital Project Archive,” including the draft chapter, all submitted comments, and the final chapter, can be found on the FERC website (www.ferc.gov) using the eLibrary link. Click on the eLibrary link, click on “General Search” and enter the docket number, excluding the last three digits in the Docket Number field (i.e., AD20-20). Be sure you have selected an appropriate date range. The Commission also offers a free service called eSubscription which allows you to keep track of all formal issuances and submittals in specific dockets. This can reduce the amount of time you spend researching proceedings by automatically providing you with electronic notification of these filings and direct links to the documents. Go to the Commission's website (www.ferc.gov), select the FERC Online option from the left-hand column, and click on eSubscription. Users must be registered in order to use eSubscription.

The final version of Chapter 15 is also available on the Commission's Division of Dam Safety and Inspections website at: Engineering Guidelines for the Evaluation of Hydropower Projects | Federal Energy Regulatory Commission (ferc.gov).

Information Collection Statement

Chapter 15 includes information collection activities for which the Paperwork Reduction Act, 44 U.S.C. 3501-3521, requires approval by the Office of Management and Budget (OMB). The Commission has included the burden and cost estimates for information collection activities related to this chapter in the rulemaking document (Docket No. RM20-9-000, Order No. 880. The Commission has designated the information collection activities in the rule as FERC-517. Upon final approval of FERC-517, OMB will assign an OMB Control Number and expiration date.

Send written comments on FERC-517 to the Office of Management and Budget (OMB) through www.reginfo.gov/public/do/PRAMain, Attention: Federal Energy Regulatory Commission Desk Officer. Please identify the OMB control number (1902-TBD) in the subject line. Your comments should be sent within 30 days of publication of this notice in the Federal Register. OMB submissions must be formatted and filed in accordance with submission guidelines at www.reginfo.gov/public/do/PRAMain. Using the search function under the “Currently Under Review field,” select Federal Energy Regulatory Commission; click “submit” and select “comment” to the right of the subject collection.

For assistance with any of the Commission's online systems, please contact FERC Online Support at FercOnlineSupport@ferc.gov or toll free at (866) 208-3676, or for TTY, contact (202) 502-8258.

Dated: December 16, 2021.
Kimberly D. Bose,
Secretary.

[FR Doc. 2021-27776 Filed 12-22-21; 8:45 am]

BILLING CODE 6717-01-P